FEDERAL MARITIME COMMISSION

[Docket No. 22-30]

Samsung Electronics America, Inc., Complainant v. Zim Integrated Shipping Services Ltd., Respondent; Notice of Filing of Complaint and Assignment

Served: October 25, 2022.

Notice is given that a complaint has been filed with the Federal Maritime Commission (Commission) by Samsung Electronics America, Inc, hereinafter “Complainant,” against Zim Integrated Shipping Services Ltd., hereinafter “Respondent.” Complainant states that it is a corporation organized under the law of the State of New York with its principal place of business located in New Jersey. Complainant identifies the Respondent as a vessel-operating common carrier with a corporate office in Haifa, Israel, conducting business in the United States through ZIM American Integrated Shipping Services Company Co. LLC, with its principal corporate office located in Norfolk, VA.

Complainant alleges that Respondent violated 46 U.S.C. 41102(c), 41102(d), 41104(a)(3), 41104(a)(10), 41104(a)(14), and 41104(a)(15) and 46 CFR 545.4 and 545.5 regarding its practices and the billing and assessment of charges on the shipments of the Complainant's container cargo. An answer to the complaint is due to be filed with the Commission within twenty-five (25) days after the date of service. The full text of the complaint can be found in the Commission's Electronic Reading Room at https://www2.fmc.gov/readingroom/proceeding/22-30/.

This proceeding has been assigned to Office of Administrative Law Judges. The initial decision of the presiding officer in this proceeding shall be issued by October 25, 2023, and the final decision of the Commission shall be issued by May 9, 2024.

William Cody,
Secretary.

[FR Doc. 2022-23589 Filed 10-28-22; 8:45 am]

BILLING CODE 6730-02-P